DEPARTMENT OF TRANSPORTATION

Federal Aviation Administration

14 CFR Part 39

[Docket No. FAA-2022-1581; Project Identifier MCAI-2022-00803-T; Amendment 39-22394; AD 2023-06-08]

RIN 2120-AA64

Airworthiness Directives; Airbus SAS Airplanes

AGENCY: Federal Aviation Administration (FAA), DOT.

ACTION: Final rule.

SUMMARY: The FAA is superseding Airworthiness Directive (AD) 2019-18-07, which applied to certain Airbus SAS Model A319-111, -112, -113, -114, -115, -131, -132, and -133 airplanes; Model A320-211, -212, -214, -216, -231, -232, and -233 airplanes; and Model A321-111, -112, -131, -211, -212, -213, -231, and -232 airplanes. AD 2019-18-07 required repetitive rototest inspections of the open tack holes and rivet holes at the cargo floor support fittings of the fuselage, including doing all applicable related investigative actions and repair if necessary. AD 2019-18-07 also adds actions (modification) for certain airplanes. Since the FAA issued AD 2019-18-07, it was determined that certain airplanes need to do additional work. This AD continues to require the actions in AD 2019-18-07 and requires additional work for certain airplanes, as specified in a European Union Aviation Safety Agency (EASA) AD, which is incorporated by reference. The FAA is issuing this AD to address the unsafe condition on these products.

DATES: This AD is effective May 18, 2023.

The Director of the Federal Register approved the incorporation by reference of a certain publication listed in this AD as of May 18, 2023.

ADDRESSES:

AD Docket: You may examine the AD docket at regulations.gov under Docket No. FAA-2022-1581; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2022-1581.

FOR FURTHER INFORMATION CONTACT: Todd Thompson, Aerospace Engineer, Large Aircraft Section, FAA, International Validation Branch, 2200 South 216th St., Des Moines, WA 98198; telephone 206-231-3228; email Todd.Thompson@faa.gov.

SUPPLEMENTARY INFORMATION:

Background

The FAA issued a notice of proposed rulemaking (NPRM) to amend 14 CFR part 39 to supersede AD 2019-18-07, Amendment 39-19734 (84 FR 50721, September 26, 2019) (AD 2019-18-07). AD 2019-18-07 applied to certain Airbus SAS Model A319-111, -112, -113, -114, -115, -131, -132, and -133 airplanes; Model A320-211, -212, -214, -216, -231, -232, and -233 airplanes; and Model A321-111, -112, -131, -211, -212, -213, -231, and -232 airplanes. AD 2019-18-07 required repetitive rototest inspections of the open tack holes and rivet holes at the cargo floor support fittings of the fuselage, including all applicable related investigative actions, and repair if necessary. AD 2019-18-07 also added actions (modification) for certain airplanes. The FAA issued AD 2019-18-07 to address cracking in the open tack holes and rivet holes at the cargo floor support fittings of the fuselage. This condition, if not addressed, could affect the structural integrity of the airplane.

The NPRM published in the Federal Register on December 13, 2022 (87 FR 76155). The NPRM was prompted by AD 2022-0115, dated June 20, 2022 (EASA AD 2022-0115), issued by EASA, which is the Technical Agent for the Member States of the European Union (referred to after this as the MCAI). The MCAI states that new technical considerations identified the need to introduce additional work for certain airplanes previously modified as specified in AD 2019-18-07. The MCAI also states that cracking in the open tack holes and rivet holes at the cargo floor support fittings of the fuselage, if not addressed, could affect the structural integrity of the airplane.

You may examine the MCAI in the AD docket at regulations.gov under Docket No. FAA-2022-1581.

In the NPRM, the FAA proposed to continue to require the actions in AD 2019-18-07 and also proposed to require additional work for certain airplanes, as specified in EASA AD 2022-0115. The FAA is issuing this AD to address the unsafe condition on these products.

Discussion of Final Airworthiness Directive

Comments

The FAA received a comment from The Air Line Pilots Association, International (ALPA), who supported the NPRM without change.

The FAA received additional comments from Delta Air Lines (DAL), United Airlines (UAL), and JetBlue Airlines (JBU). The following presents the comments received on the NPRM and the FAA's response to each comment.

Request To Allow Previous Alternative Methods of Compliance (AMOCs)

To address previously issued AMOCs that are also applicable to the proposed AD, DAL, UAL, and JBU requested that the proposed AD be revised to allow AMOCs approved for FAA AD 2019-18-07 as acceptable AMOCs for the corresponding provisions of paragraph (g) of this AD. Otherwise, the operators would need to re-request previously approved AMOCs. DAL also requested that the proposed AD be revised to allow AMOCs approved for AD 2015-17-14, Amendment 39-18247 (80 FR 52182, August 28, 2015) (AD 2015-17-14) be approved as AMOCs for the corresponding provisions of this AD. DAL noted that AD 2019-18-07 allowed using AMOCs previously approved for AD 2015-17-14 for the corresponding provisions required by AD 2019-18-07.

The FAA agrees with the requested change by DAL, UAL, and JBU. The AMOCs for AD 2019-18-07 and AD 2015-17-14 are also approved as AMOCs for the corresponding provisions of EASA AD 2022-0115, dated June 20, 2022. The FAA has added paragraphs (i)(1)(i) through (iii) of this AD to include this information.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

EASA AD 2022-0115 specifies procedures for repetitive inspections of the open tack holes and rivet holes of the fuselage frames below the cargo floor support fittings for cracking, including doing all applicable related investigative actions (inspections of the related frame layer (vertical web/horizontal flange) for cracking) and repair. EASA AD 2022-0115 also specifies procedures for modification of the fuselage (including replacing the shear webs and certain frame clips, adding additional support angles, and cold expanding one tack hole and one tooling home in each frame). EASA AD 2022-0115 also specifies procedures for additional work for certain Model A321 airplanes previously modified as specified in AD 2019-18-07. The additional work includes replacing affected fasteners on frames 62 and 63 after doing a rototest for cracking, cold working the fastener holes, and repair.

This material is reasonably available because the interested parties have access to it through their normal course of business or by the means identified in the ADDRESSES section.

Costs of Compliance

The FAA estimates that this AD affects 1,267 airplanes of U.S. registry. The FAA estimates the following costs to comply with this AD:

Estimated Costs for Required Actions
Action | Labor cost | Parts cost | Cost per product | Cost on U.S. operators
Retained actions from AD 2019-18-07 | Up to 474 work-hours × $85 per hour = Up to $40,290 | $13,000 | Up to $53,290 | Up to $67,518,430.
New actions | 28 work-hours × $85 per hour = $2,380 | $50 | $2,430 | $2,430 per product.

The FAA has received no definitive data that would enable the agency to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-18-07, Amendment 39-19734 (84 FR 50721, September 26, 2019); and

b. Adding the following new airworthiness directive:

2023-06-08 Airbus SAS: Amendment 39-22394; Docket No. FAA-2022-1581; Project Identifier MCAI-2022-00803-T.

(a) Effective Date

This airworthiness directive (AD) is effective May 18, 2023.

(b) Affected ADs

This AD replaces AD 2019-18-07, Amendment 39-19734 (84 FR 50721, September 26, 2019) (AD 2019-18-07).

(c) Applicability

This AD applies to Airbus SAS Model A319-111, -112, -113, -114, -115, -131, -132, and -133 airplanes; Model A320-211, -212, -214, -216, -231, -232, and -233 airplanes; and Model A321-111, -112, -131, -211, -212, -213, -231, and -232 airplanes; certificated in any category, as identified in European Aviation Safety Agency (EASA) AD 2022-0115, dated June 20, 2022 (EASA AD 2022-0115).

(d) Subject

Air Transport Association (ATA) of America Code 53, Fuselage.

(e) Unsafe Condition

This AD was prompted by widespread fatigue damage (WFD) evaluations and full-scale fatigue testing that revealed several broken frames in certain areas of the cargo compartment, and by the determination that additional work is needed for certain airplanes. The FAA is issuing this AD to address cracking in the open tack holes and rivet holes at the cargo floor support fittings of the fuselage. The unsafe condition, if not addressed, could affect the structural integrity of the airplane.

(f) Compliance

Comply with this AD within the compliance times specified, unless already done.

(g) Requirements

Except as specified in paragraph (h) of this AD: Comply with all required actions and compliance times specified in, and in accordance with, EASA AD 2022-0115.

(h) Exceptions to EASA AD 2022-0115

(1) Where EASA AD 2022-0115 refers to January 3, 2014 (the effective date of EASA AD 2013-0310), this AD requires using October 2, 2015 (the effective date of AD 2015-17-14, Amendment 39-18247 (80 FR 52182, August 28, 2015) (AD 2015-17-14)).

(2) Where EASA AD 2022-0115 refers to November 9, 2018 (the effective date of EASA AD 2018-0233 at original issue), this AD requires using October 31, 2019 (the effective date of AD 2019-18-07).

(3) Where EASA AD 2022-0115 refers to its effective date, this AD requires using the effective date of this AD.

(4) Where paragraph (2) of EASA AD 2022-0115 specifies “contact Airbus for approved repair instructions and, within the compliance time identified therein, accomplish those instructions accordingly” if a crack is detected, for this AD if any cracking is detected, the cracking must be repaired before further flight using a method approved by the Manager, International Validation Branch, FAA; or EASA; or Airbus SAS's EASA Design Organization Approval (DOA). If approved by the DOA, the approval must include the DOA-authorized signature.

(5) The “Remarks” section of EASA AD 2022-0115 does not apply to this AD.

(i) Additional FAA AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (j) of this AD.

(i) Before using any approved AMOC, notify your appropriate principal inspector, or lacking a principal inspector, the manager of the responsible Flight Standards Office.

(ii) AMOCs approved previously for AD 2019-18-07 are approved as AMOCs for the corresponding provisions of EASA AD 2022-0115 that are required by paragraph (g) of this AD.

(iii) AMOCs approved previously for AD 2015-17-14 are approved as AMOCs for the corresponding provisions of EASA AD 2022-0115 that are required by paragraph (g) of this AD.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (i)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Todd Thompson, Aerospace Engineer, Large Aircraft Section, FAA, International Validation Branch, 2200 South 216th St., Des Moines, WA 98198; telephone 206-231-3228; email Todd.Thompson@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2022-0115, dated June 20, 2022.

(ii) [Reserved]

(3) For EASA AD 2022-0115, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on March 17, 2023.
Christina Underwood,
Acting Director, Compliance & Airworthiness Division, Aircraft Certification Service.

[FR Doc. 2023-07752 Filed 4-12-23; 8:45 am]

BILLING CODE 4910-13-P